DEPARTMENT OF TRANSPORTATION

Federal Motor Carrier Safety Administration

[Docket No. FMCSA-2016-0194]

Agency Information Collection Activities; Renewal of a Currently-Approved Information Collection: Licensing Applications for Motor Carrier Operating Authority

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA requests approval to renew an ICR titled, “Licensing Applications for Motor Carrier Operating Authority,” that is used by for-hire motor carriers of regulated commodities, motor passenger carriers, freight forwarders, property brokers, and certain Mexico-domiciled motor carriers to register their operations with the FMCSA.

DATES: We must receive your comments on or before November 18, 2016. OMB must receive your comments by this date in order to act quickly on the ICR.

ADDRESSES: All comments should reference Federal Docket Management System (FDMS) Docket Number FMCSA-2016-0194. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Mr. Jeffrey Secrist, Office of Registration and Safety Information, Department of Transportation, Federal Motor Carrier Safety Administration, 1200 New Jersey Avenue SE., Washington, DC 20590-0001. Telephone Number: (202) 385-2367; Email Address: jeff.secrist@dot.gov. Office hours are from 8:00 a.m. to 5:00 p.m., E.T., Monday through Friday, except Federal holidays.

SUPPLEMENTARY INFORMATION:

Title: Licensing Applications for Motor Carrier Operating Authority.

OMB Control Number: 2126-0016.

Type of Request: Renewal of a currently approved collection.

Respondents: Motor carriers, motor passenger carriers, freight forwarders, brokers, and certain Mexico-domiciled motor carriers.

Estimated Number of Respondents and Responses: 37,240 respondents [(37,216 respondents and responses for Year 1) + (12 respondents and responses for Year 2) + (12 respondents and responses for Year 3)].

Estimated Time per Response: 2 hours for forms OP-1, OP-1(P), OP-1(FF) and 4 hours for forms OP-1(MX), OP-1(NNA).

Expiration Date: October 31, 2016.

Frequency of Response: Other (as needed).

Estimated Total Annual Burden: 24,853 hours [74,464 hours for Year 1 + 48 hours for Year 2 + 48 hours for Year 3 = 74,560 hours/3 year approval for ICR = 24,853 estimated average number of annual burden hours].

Background: The FMCSA registers for-hire motor carriers of regulated commodities, motor passenger carriers, freight forwarders, property brokers, and certain for-hire Mexico-domiciled motor carriers under 49 U.S.C. 13902(c). These motor carriers may conduct transportation services in the United States only if they are registered with the FMCSA. Each registration is effective from the date specified and remains in effect for such period as the Secretary of Transportation (Secretary) determines by regulations. The ICC Termination Act of 1995 (ICCTA), Public Law 104-88, 109 Stat. 803 (December 29, 1995), transferred this registration authority from the former Interstate Commerce Commission (ICC) to the Secretary who subsequently delegated the registration function to the Federal Highway Administration (FHWA) (FMCSA's predecessor agency), then to the FMCSA at the time that agency was created.

On March 19, 2002, the FMCSA published an interim final rule (IFR) at 67 FR 12702 which proposed to amend 49 CFR part 365 and revise Form OP-1(MX). Under the amended regulations, Mexico-domiciled long-haul motor carriers seeking to operate within the United States beyond the commercial border zones, including carriers that previously filed pending Form OP-1(MX) applications, would be required to submit the revised Form OP-1(MX). Under the revised Form OP-1(MX), the FMCSA would collect more detailed information on an applicant motor carrier's size, operations and history than could be collected previously by using the existing form.

The Final Rule titled, “Unified Registration System,” (78 FR 52608) dated August 23, 2013, implemented statutory provisions for an on-line registration system required by ICCTA and the Safe, Accountable, Flexible, Efficient Transportation Equity Act: A Legacy for Users, 2005 (SAFETEA-LU). The URS streamlines the registration process and serves as a clearinghouse and repository of information on, and identification of, motor carriers, brokers, freight forwarders, intermodal equipment providers (IEPs), hazardous materials safety permit (HMSP) applicants, and cargo tank facilities required to register with FMCSA. This ICR previously covered registration requirements for non-exempt for-hire carriers, freight forwarders, and property brokers. Under the URS, all forms in this ICR, except the OP-1 (MX), were folded into the Form MCSA-1 under the OMB Control Number 2126-0051 titled, “FMCSA Registration/Updates,” ICR on October 23, 2015. The Form OP-1(MX) would be retained for the small number of Mexico-domiciled carriers that seek authority to operate beyond the United States municipalities on the United States-Mexico border and their commercial zones because they are not included within the scope of the URS rule.

The Final Rule titled, “Unified Registration System,” (80 FR 63695) dated October 21, 2015, changed the effective and compliance dates of the 2013 URS Final Rule from October 23, 2015, to September 30, 2016, in order to allow FMCSA additional time to complete the information technology (IT) systems work required to fully implement that rule. An additional delay was published on July 28, 2016 (81 FR 49553), stating the URS Final Rule will come into effect on January 14, 2017, however the full compliance date is April 14, 2017. This ICR revision will restore the Forms OP-1, OP-1(P), OP-1(FF), and OP-1(NNA) under control number 2126-0016, until the scheduled URS full compliance date of April 14, 2017, because these forms are still needed to support registration processes for entities subject to FMCSA's regulations that enforce these motor carriers to update their registration for operating authority, or add additional authorities with FMCSA, in order to conduct for-hire interstate transportation services of passengers, or regulated commodities, in the United States. After April 14, 2017, all forms in this ICR, except the OP-1(MX), will be folded into the online Form MCSA-1 under the OMB Control Number 2126-0051 titled, “FMCSA Registration/Updates.”

Public Comments Invited: No comments were received from the public in response to the 60-day Federal Register (81 FR 53539), issued on August 12, 2016. You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued under the authority delegated in 49 CFR 1.87 on: October 13, 2016.
G. Kelly Regal.
Associate Administrator for Office of Research and Information Technology.

[FR Doc. 2016-25230 Filed 10-18-16; 8:45 am]

BILLING CODE 4910-EX-P